DEPARTMENT OF EDUCATION

Applications for New Awards; Gaining Early Awareness and Readiness for Undergraduate Programs (State Grants)

AGENCY: Office of Postsecondary Education, Department of Education.

ACTION: Notice; corrections and reopening.

SUMMARY: On November 20, 2024, the Department of Education (Department) published in the Federal Register a notice inviting applications (NIA) for fiscal year (FY) 2025 for the Gaining Early Awareness and Readiness for Undergraduate Programs (GEAR UP) State Grants competition. The NIA established a deadline date of February 3, 2025, for the transmittal of applications. The Department is correcting the NIA by removing some of the competitive preference priorities. This notice also reopens the competition and extends the deadline dates for transmittal of applications and intergovernmental review. All other information in the NIA remains the same.

DATES:

These corrections are applicable on: June 11, 2025.

Deadline for Transmittal of Applications: June 25, 2025.

Deadline for Intergovernmental Review: August 25, 2025.

Given the changes to the competitive priorities, the Department will not consider applications submitted prior to June 11, 2025. Applicants that have already timely submitted an application under the 2025 GEAR UP State competition must resubmit an updated application on or before the reopened application deadline of June 25, 2025 for the application to be reviewed. Program staff will endeavor to notify applicants that have already submitted an application of the requirement to submit an updated application. The Department will consider the application that is last submitted and timely received by 11:59:59 p.m., Eastern Time, on June 25, 2025.

ADDRESSES: For the addresses for obtaining and submitting an application, please refer to our Common Instructions for Applicants to Department of Education Discretionary Grant Programs, published in the Federal Register on December 23, 2024 (89 FR 104528) and available at https://www.federalregister.gov/documents/2024/12/23/2024-30488/common-instructions-for-applicants-to-department-of-education-discretionary-grant-programs.

FOR FURTHER INFORMATION CONTACT: Ben Witthoefft, U.S. Department of Education, office 5B132, 400 Maryland Avenue SW, Washington, DC 20202-6450. Telephone: (202) 453-7576. Email: Ben.Witthoefft@ed.gov or ReShone Moore, Ph.D., U.S. Department of Education, 400 Maryland Avenue SW, Washington, DC 20202-6450. Telephone: (202) 453-7624. Email: ReShone.Moore@ed.gov.

If you are deaf, hard of hearing, or have a speech disability and wish to access telecommunications relay services, please dial 7-1-1.

SUPPLEMENTARY INFORMATION: On November 20, 2024, the Department published an NIA for the FY 2025 GEAR UP State grants competition in the Federal Register (89 FR 91715). The Department is correcting the NIA by removing some of the competitive preference priorities, reopening the competition and extending the deadline for transmittal of applications, and extending the deadline for intergovernmental review for the FY 2025 GEAR UP competition. The Department is correcting this NIA as part of a comprehensive review of recently published FY 2025 NIAs. This reevaluation seeks to ensure that all priorities and requirements for the Department's FY 2025 competitions align with the objectives and priorities established by the current administration while fostering consistency across all grant programs as well as ensuring our ability to make timely awards. The Department is dedicated to optimizing the impact of our grant competitions on students and families, as well as enhancing the economic effectiveness of federal education funding. All other information in the NIA remains the same.

Corrections

In FR Doc. 2024-27055, published in the Federal Register on November 20, 2024 (89 FR 91715), we made the following corrections:

1. On page 91715, in the second column, DATES is corrected to read as follows:

“DATES:

Applications Available: November 20, 2024.

Deadline for Transmittal of Applications: June 25, 2025.

Deadline for Intergovernmental Review: August 25, 2025.”

2. On page 91715, in the second column, ADDRESSES is corrected to read as follows:

“ADDRESSES: For the addresses for obtaining and submitting an application, please refer to our Common Instructions for Applicants to Department of Education Discretionary Grant Programs, published in the Federal Register on December 23, 2024 (89 FR 104528) and available at https://www.federalregister.gov/documents/2024/12/23/2024-30488/common-instructions-for-applicants-to-department-of-education-discretionary-grant-programs.”

3. On page 91715, in the third column, “Priorities:” is corrected to read as follows:

“Priorities: This notice contains four competitive preference priorities” to “This notice contains one competitive preference priority.” Then, delete “Competitive Preference Priorities 2 and 3 are from the Secretary's Final Supplemental Priorities and Definitions for Grant Programs, published in the Federal Register on December 10, 2021 (86 FR 70612) (Supplemental Priorities). Competitive Preference Priority 4 is from 34 CFR 75.226(b).”

4. On page 91716, in the first column, the first paragraph from the top and the first sentence after it are corrected to read as follows:

“Competitive Preference Priority: For FY 2025 and any subsequent year in which we make awards from the list of unfunded applications from this competition, this priority is a competitive preference priority. Under 34 CFR 75.105(c)(2)(i), we award up to an additional two points to an application, depending on how well the application meets the competitive preference priority.

This priority is:”

5. On page 91716, in the first and second columns, remove the following:

“Competitive Preference Priority 2—Increasing Postsecondary Education Access, Affordability, Completion, and Post-Enrollment Success (up to 5 points). Projects that are designed to increase postsecondary access, affordability, completion, and success for underserved students by establishing a system of high-quality data collection and analysis, such as data on persistence, retention, completion, and post-college outcomes, for transparency, accountability, and institutional improvement. Competitive Preference Priority 3—Meeting Student Social, Emotional, and Academic Needs (up to 5 points). Projects that are designed to improve students' social, emotional, academic, and career development, with a focus on underserved students, through fostering partnerships, including across government agencies (e.g., housing, human services, employment agencies), local educational agencies, community- based organizations, adult learning providers, and postsecondary education intuitions, to provide comprehensive services to students and families that support students' social, emotional, mental health, and academic needs, and that are inclusive with regard to race, ethnicity, culture, language, and disability status. Competitive Preference Priority 4—Moderate Evidence (0 or 3 points).

Applications supported by evidence that meets the conditions in the definition of “moderate evidence” (as defined in this notice).

Note: To address this priority, an applicant may submit up to two study citations that it believes support the implementation of a GEAR UP authorized activity proposed in the application and that meet the moderate evidence standard. For State grantees, required GEAR UP services are specified in section 404D(a) of the HEA (20 U.S.C. 1070a-24(a)), and permissible services are specified in section 404D(b) and (c) of the HEA (20 U.S.C. 1070a-24(b) and (c)). Applicants can cite What Works Clearinghouse (WWC) intervention reports, WWC practice guides, or individual studies, including those already listed in the Department's WWC Database of Individual Studies and those that have not yet been reviewed by the WWC. The proposed studies must be cited in the application section for Competitive Preference Priority 4 as well as on the Evidence Form. Applicants must also describe: (1) the project component(s) from the cited research they intend to implement in their GEAR UP project, (2) the relevant outcome(s) that are included in both the study (or WWC practice guide or intervention report) and in the proposed project, (3) the research findings suggesting a favorable relationship between the project component and the relevant outcome, and (4) how the population and/or settings in the cited research overlap with that of the proposed project. The Department will review the research cited by the applicant to determine whether it meets the requirements for moderate evidence and whether it is sufficiently aligned with the proposed project.”

6. On page 91716, in the third column, “Definitions:” is corrected to read as follows:

“Definitions: The definitions of “experimental study,” “logic model,” “quasi-experimental design study,” and “relevant outcome,” are from 34 CFR 77.1(c).

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbooks:

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

Logic model (also referred to as a theory of action) means a framework that identifies key project components of the proposed project (i.e., the active “ingredients” that are hypothesized to be critical to achieving the relevant outcomes) and describes the theoretical and operational relationships among the key project components and relevant outcomes.

Note: In developing logic models, applicants may want to use resources such as the Regional Educational Laboratory Program's (REL Pacific) Education Logic Model Application, available at https://ies.ed.gov/ncee/edlabs/regions/pacific/elm.asp, to help design their logic models. Other sources include: https://ies.ed.gov/ncee/edlabs/regions/pacific/pdf/REL_2014025.pdf, https://ies.ed.gov/ncee/edlabs/regions/pacific/pdf/REL_2014007.pdf, and https://ies.ed.gov/ncee/edlabs/regions/northeast/pdf/REL_2015057.pdf.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbooks.

Relevant outcome means the student outcome(s) or other outcome(s) the key project component is designed to improve, consistent with the specific goals of the program.

7. On page 91718, in the first column, under “Applicable Regulations”, remove “(e) The Supplemental Priorities.”

8. On page 91718, in the first column, “Estimated Available Funds:”, “The Administration has requested $398,000,000 for GEAR UP for FY 2025, of which we intend to use an estimated $35,000,000 for the State competition. The actual level of funding, if any, depends on final congressional action. However, we are inviting applications to allow enough time to complete the grant process if Congress appropriates funds for this program” is corrected to read “$36,500,000. Note: The Department is not bound by any estimate in this Notice.”

9. On page 91719, in the second and third columns, “1. Application Submission Instructions” is corrected to read as follows:

“1. Application Submission Instructions: Applicants are required to follow the Common Instructions for Applicants to Department of Education Discretionary Grant Programs, published in the Federal Register on December 23, 2024 (89 FR 104528), and available at https://www.federalregister.gov/documents/2024/12/23/2024-30488/common-instructions-for-applicants-to-department-of-education-discretionary-grant-programs.”

10. On page 91720, in the first column, in the fifth line in “1. Selection Criteria”, “(1) The Secretary considers the the need for the proposed project” is corrected to read “(1) The Secretary considers the need for the proposed project.”

11. On page 91720, in the first column, the fourth paragraph from the top is corrected to read as follows: “We recommend that any application addressing the competitive preference priority and/or invitational priority include no more than three additional pages for each priority addressed.”

12. On page 91722, in the first column, “Continuation Awards” is corrected to read as follows:

“6. Continuation Awards: In making a continuation award under 34 CFR 75.253, the Secretary considers, among other things: whether a grantee has made substantial progress in achieving the goals and objectives of the project; whether the grantee has expended funds in a manner that is consistent with its approved application and budget; if the Secretary has established performance measurement requirements, whether the grantee has made substantial progress in achieving the performance targets in the grantee's approved application, or whether the continuation of the project is in the best interest of the Federal Government.

In making a continuation award, the Secretary also considers whether the grantee is operating in compliance with the assurances in its approved application, including those applicable to Federal civil rights laws that prohibit discrimination in programs or activities receiving Federal financial assistance from the Department (34 CFR 100.4, 104.5, 106.4, 108.8, and 110.23).”

Other Information

Accessible Format: On request to the program contact persons listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at: www.federalregister.gov. Specifically, through the advanced search feature at this site, you can limit your search to documents published by the Department.

Signing Authority

This document of the U.S. Department of Education was signed on May 28, 2025, by Christopher J. McCaghren, ED.D, Acting Assistant Secretary Office of Postsecondary Education. That document with the original signature and date is maintained by the U.S. Department of Education. For administrative purposes only, and in compliance with requirements of the Office of the Federal Register, the undersigned has been authorized to sign the document in electronic format for publication, as an official document of the U.S. Department of Education. This administrative process in no way alters the legal effect of this document upon publication in the Federal Register.

Tracey St. Pierre,
Director, Office of the Executive Secretariat, Office of the Secretary, U.S. Department of Education.

[FR Doc. 2025-10537 Filed 6-10-25; 8:45 am]

BILLING CODE 4000-01-P